DEPARTMENT OF ENERGY

Office of Fossil Energy; National Coal Council; Notice of Open Meeting

AGENCY: Department of Energy.

ACTION: Notice of open meeting.

SUMMARY: This notice announces a meeting of the National Coal Council. The purpose of this meeting is to provide the Secretary of Energy with the report which he requested on June 26, 2006. This report is titled “Technology Based Framework for Mitigating Greenhouse Gases from Coal- Based Electricity Plants.” Federal Advisory Committee Act (Pub. L. 92-463, 86 Stat. 770) requires notice of these meetings be announced in the Federal Register.

DATES: June 7, 2007, 9 a.m. to 12 Noon.

ADDRESSES: Fairmont Hotel, 2401 M St., NW., Washington, DC.

FOR FURTHER INFORMATION CONTACT: Mr. Robert Kane, Phone (202) 586-4753, U.S. Department of Energy, Office of Fossil Energy, Washington, DC 20585.

SUPPLEMENTARY INFORMATION: Purpose of the Committee: The purpose of the National Coal Council is to provide advice, information, and recommendation to the Secretary of Energy on matters relating to coal and coal industry issues:

Public Participation: The meeting is open to the public. The Chair of the NCC will conduct the meeting to facility orderly business. If you would like to file a written statement with the Committee, you may do so either before or after the meeting. If you would like to make oral statements regarding any of the items on the agenda, you should contact Mr. Robert Kane at the address and telephone number listed above. You must make your request for an oral statement at least five business days prior to the meeting, and reasonable provisions will be made to include the presentation on the agenda. Public comment will follow the 10-minute rule.

Minutes: The minutes will be available for public review and copying within 30 days at the Freedom of Information Public Reading Room, 1E-190, Forrestal Building, 1000 Independence Avenue, SW., Washington, DC, between 9 a.m. and 4 p.m., Monday through Friday, except Federal holidays.

Issued in Washington, DC on May 17, 2007.
Rachel M. Samuel,
Deputy Advisory Committee Management Officer.

[FR Doc. E7-9830 Filed 5-21-07; 8:45 am]

BILLING CODE 6450-01-P